ENVIRONMENTAL PROTECTION AGENCY

[EPA-HQ-OPP-2023-0067; FRL-10578-01-OCSPP]

Pesticide Product Registration; Receipt of Applications for New Uses January 2023

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before March 27, 2023.

ADDRESSES: Submit your comments, identified by docket identification (ID) number EPA-HQ-OPP-2023-0067, and the specific case number for the chemical substance related to your comment, through the Federal eRulemaking Portal at https://www.regulations.gov. Follow the online instructions for submitting comments. Do not submit electronically any information you consider to be Confidential Business Information (CBI) or other information whose disclosure is restricted by statute. To make special arrangements for hand delivery or delivery of boxed information, please follow the instructions at https://www.epa.gov/dockets/contacts.html. Additional instructions on commenting or visiting the docket, along with more information about dockets generally, is available at https://www.epa.gov/dockets.

FOR FURTHER INFORMATION CONTACT: Anita Pease, Antimicrobials Division (AD) (7510P), main telephone number: (202) 566-0736: email address: ADFRNotices@epa.gov; or Dan Rosenblatt, Registration Division (RD) (7505T), main telephone number: (202) 566-2875, email address: RDFRNotices@epa.gov. The mailing address for each contact person is Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

Notice of Receipt—New Uses

EPA Registration Number: 100-739, 100-740. Docket ID number: EPA-HQ-OPP-2022-0856. Applicant: Syngenta Crop Protection, LLC 410 Swing Road Greensboro, NC 27419 Active ingredient: Difenoconazole. Product type: Fungicide. Proposed use: Dried Shelled Pea and Bean (except Soybean) Crop Subgroup 6C (Seed treatment). Contact: RD.

EPA Registration Numbers: 5905-580, 62719-87, and 62719-533. Docket ID number: EPA-HQ-OPP-2022-0890. Applicant: Interregional Research Project Number 4 (IR-4), North Carolina State University, 1730 Varsity Drive, Venture IV, Suite 210, Raleigh, NC 27606. Active ingredient: Triclopyr. Product type: Herbicide. Proposed use: Sugarcane. Contact: RD.

File Symbol: 69132-L. Docket ID number: EPA-HQ-OPP-2023-0016. Applicant: Purac America, Inc., 7905 Quivira Rd., Lexena, KS 66215. Active ingredient: L-lactic acid. Product type: In-can preservative. Proposed use: In-can preservative for controlling microorganisms (bacteria and fungi) that cause spoilage and/or fouling in industrial, commercial and consumer (household) products, such as liquid detergents, laundry products, fabric softeners, soaps, liquid cleaners, all-purpose cleaners, disinfectants and sanitizers, furniture and floor care, cleaning wipes, shampoos (carpet, upholstery, animal, industrial), leather care, shower gels, inks, adhesives, silicone emulsions, and surfactants. Contact: AD.

EPA Registration Numbers: 7969-335 and 7969-336. Docket ID number: EPA-HQ-OPP-2022-0887. Applicant: BASF Corporation 26 Davis Drive, P.O. Box 13528, Research Triangle Park, NC 27709-3528. Active ingredient: Cyflumetofen. Product type: Insecticide. Proposed uses: Cucurbit crop group 9; crop group expansions for berry, low growing, subgroup 13-07G and fruit, small, vine climbing, except fuzzy kiwifruit, subgroup 13-07F; and new field use on pepper/eggplant, subgroup 8-10B. Contact: RD.

Authority: 7 U.S.C. 136 et seq.

Dated: February 13, 2023.
Delores Barber,
Director, Information Technology and Resources Management Division, Office of Program Support.

[FR Doc. 2023-03743 Filed 2-22-23; 8:45 am]

BILLING CODE 6560-50-P